DEPARTMENT OF THE INTERIOR

Bureau of Land Management

Notice of Public Meeting: Resource Management Planning (RMP) Subgroup of the Resource Advisory Council to the Boise District, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Resource Management Planning Subgroup of the Boise District Resource Advisory Council (RAC), will meet as indicated below.

DATES: The meeting will be held July 12, 2006, beginning at 6 p.m. and ending at 9 p.m. at the Offices of the Boise District BLM, located at 3948 Development Avenue, in Boise, Idaho 83705. Public comments on the discussion topics are welcomed after the Subgroup discussions are concluded.

FOR FURTHER INFORMATION CONTACT: MJ Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho. The purpose of the RMP Subgroup meeting will be to receive a presentation on the preliminary drafts of chapters 2 and 3 of the Bruneau Resource Management Planning (RMP) document. BLM managers will review changes to the alternatives with the RAC Members, and comments received related to the Bruneau RMP. This urgent meeting is being called in order to receive comments from the RAC Subgroup on the proposed alternatives, and to meet the target date for completion of the Bruneau Draft RMP.

This and all RAC meetings are open to the public. The public may present written comments to the Council. Depending on the number of persons wishing to comment and time available, the time for individual oral comments may be limited. Individuals who plan to attend and need special assistance, such as sign language interpretation, tour transportation or other reasonable accommodations, should contact the BLM Coordinator as provided above. Expedited publication is requested to give the public adequate notice.

Dated: June 23, 2006.
Jerry L. Taylor,
District Manager.

[FR Doc. 06-5787 Filed 6-27-06; 8:45 am]

BILLING CODE 4310-DW-P